ENVIRONMENTAL PROTECTION AGENCY

[EPA-R10-RCRA-2023-0638; FRL-11886-01-R10]

Idaho: Notice of Determination of Adequacy of Idaho's Research, Development and Demonstration Permit Provisions for Municipal Solid Waste Landfills

AGENCY: Environmental Protection Agency (EPA).

ACTION: Notice.

SUMMARY: The Environmental Protection Agency (EPA) is approving Idaho's modification to its approved Municipal Solid Waste Landfill (MSWLF) permit program. On March 22, 2004, the EPA issued final regulations allowing Research, Development, and Demonstration (RD&D) permits to be issued to certain MSWLFs by approved states. On September 14, 2023, the Idaho Department of Environmental Quality submitted an application to the EPA seeking Federal approval of its RD&D requirements. The EPA has reviewed the application and determined it to be adequate.

DATES: This determination of adequacy will become effective July 8, 2024 without further notice unless the EPA receives adverse comments on or before July 8, 2024. If adverse comments are received, the EPA will review the comments and publish another Federal Register document responding to the comments and will either affirm or revise its initial decision.

ADDRESSES: Submit your comments, identified by Docket ID No. EPA-R10-RCRA-2023-0638, at https://www.regulations.gov. Follow the online instructions for submitting comments. Once submitted, comments cannot be edited or removed from regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit https://www.epa.gov/dockets/commenting-epa-dockets.

FOR FURTHER INFORMATION CONTACT: Domenic Calabro, U.S. EPA Region 10, 1200 6th Avenue, Suite 155, Seattle, WA 98101, (206) 553-6640, calabro.domenic@epa.gov.

SUPPLEMENTARY INFORMATION:

I. Background

On March 22, 2004, the EPA issued a final rule amending the Municipal Solid Waste Landfill (MSWLF) criteria in the Code of Federal Regulations (CFR) at 40 CFR part 258 to allow for Research, Development and Demonstration (RD&D) permits (69 FR 13242). That rule allows for variances from specified criteria for a limited period of time, to be implemented through state-issued RD&D permits. RD&D permits are available only in states with approved MSWLF permit programs that have been modified to incorporate RD&D permit authority.

While states are not required to adopt this provision, those states that are interested in providing RD&D permits to owners and operators of MSWLFs must seek approval from the EPA before issuing such permits. Approval procedures for new provisions of 40 CFR part 258 are outlined in 40 CFR 239.12.

On September 21, 1993, the EPA published a final rule approving Idaho's MSWLF permit program (65 FR 453). On September 14, 2023, the Idaho Department of Environmental Quality applied for approval of its RD&D permit provisions, codified at Idaho Code 39-7421, Idaho Solid Waste Facilities Act.

II. Decision

After a thorough review of Idaho's revision package, the EPA determined that Idaho's RD&D permit provisions, as set out in Idaho Code 39-7421, Idaho Solid Waste Facilities Act, are adequate to ensure compliance with the Federal criteria as set out in 40 CFR 258.4.

Authority:This action is issued under the authority of sections 2002, 4005 and 4010(c) of the Solid Waste Disposal Act, as amended, 42 U.S.C. 6912, 6945 and 6949(a).

Dated: May 3, 2024.
Casey Sixkiller,
Regional Administrator, Region 10.

[FR Doc. 2024-10175 Filed 5-8-24; 8:45 am]

BILLING CODE 6560-50-P